COMMISSION ON CIVIL RIGHTS

Sunshine Act Meeting

AGENCY: U.S. Commission on Civil Rights.

DATE AND TIME: Friday, June 8, 2001, 9:30 a.m.

PLACE: U.S. Commission on Civil Rights, 624 Ninth Street, NW., Room 540, Washington, DC 20425.

STATUS:

Agenda

I. Approval of Agenda

II. Approval of Minutes of May 4, 2001 Meeting

III. Announcements

IV. Staff Director's Report

V. Staff Advisory Committee Report

• Delaware Citizens Guide to Civil Rights and Supporting Services (Delaware)

VI. Discussion of Report on Voting Irregularities Occurring in Florida During the 2000 Presidential Election

VII. Future Agenda Items

CONTACT PERSON FOR FURTHER INFORMATION: David Aronson, Press and Communications (202) 376-8312.

Edward A. Hailes, Jr.,
General Counsel.

[FR Doc. 01-13940 Filed 5-30-01; 1:22 pm]

BILLING CODE 6335-00-M